COMMISSION ON CIVIL RIGHTS

Agenda and Notice of Public Meeting of the Massachusetts Advisory Committee

AGENCY: Commission on Civil Rights.

ACTION: Announcement of briefing on labor trafficking.

SUMMARY: Notice is hereby given, pursuant to the provisions of the rules and regulations of the U.S. Commission on Civil Rights (Commission), and the Federal Advisory Committee Act (FACA), that a briefing meeting of the Massachusetts Advisory Committee to the Commission will convene on Friday, April 26, 2019, at 10 a.m. to 2:00 p.m. (EDT) in Room 437 of the State House, 24 Beacon Street, Boston, MA 02133. The purpose of the briefing meeting is to hear from government officials, advocates, and the public on labor trafficking in Massachusetts.

DATES: Friday, April 26, 2019 at 10 a.m. to 2:00 p.m. (EDT).

ADDRESSES: Room 437, State House, 24 Beacon Street, Boston, MA 02133.

FOR FURTHER INFORMATION CONTACT: Evelyn Bohor, at ero@usccr.gov or by phone at 202-376-7533.

SUPPLEMENTARY INFORMATION: If other persons who plan to attend the meeting require other accommodations, please contact Evelyn Bohor at ebohor@usccr.gov at the Eastern Regional Office at least ten (10) working days before the scheduled date of the meeting. Time will be set aside at the end of the meeting so that members of the public may address the Committee after the planning meeting. Persons interested in the issue are also invited to submit written comments; the comments must be received in the regional office by Monday, April 29, 2019. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

Records and documents discussed during the meeting will be available for public viewing as they become available at: https://gsageo.force.com/FACA/FACAPublicViewCommitteeDetails?id=a10t0000001gzllAAA. Records generated from this meeting may also be inspected and reproduced at the Eastern Regional Office, as they become available, both before and after the meeting. Persons interested in the work of this advisory committee are advised to go to the Commission's website, www.usccr.gov, or to contact the Eastern Regional Office at the above phone number, email or street address.

Agenda

Friday, April 26, 2019 at 10 a.m. to 2:00 p.m. (EDT)

I. Welcome and Introductions

II. Briefing on Labor Trafficking

V. Open Comment

VI. Adjournment

Exceptional Circumstance: Pursuant to 41 CFR 102-3.150, the notice for this meeting is given less than 15 calendar days prior to the meeting because of the exceptional circumstances of the federal government shutdown.

Dated: April 9, 2019.
David Mussatt,
Supervisory Chief, Regional Programs Unit.

[FR Doc. 2019-07348 Filed 4-12-19; 8:45 am]

BILLING CODE P